DEPARTMENT OF HEALTH AND HUMAN SERVICES

Centers for Disease Control and Prevention

[60Day-06-06BE]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluating Channels for Dissemination and Influencing Factors for Implementation of CDC's Dental Infection Control Guidelines—New—National Center for Chronic Disease Prevention and Health Promotion (NCCDPHP), Centers for Disease Control and Prevention (CDC).

Background and Brief Description

The Centers for Disease Control and Prevention's (CDC) Dental Unit plans to conduct an evaluation of the acceptance and implementation of its 2003 Guidelines for Infection Control in Dental Health Care Settings. These Guidelines took an evidence-based approach to recommending infection control procedures, coalescing existing guidelines developed over the past decade with new infection control measure recommendations supported by research.

In releasing the Guidelines just over two years ago, the CDC mailed more then 400,000 copies to practicing dentists, hygienists, dental schools and educators, and health science libraries. CDC also prepared a summary of the Guidelines that was published in the Journal of the American Dental Association (JADA) in early 2004. At this time, it is critical to the Dental Unit's dissemination plan to mount an evaluation of the effectiveness of CDC's activities in moving the behavior of practicing dentists in the direction of increased adoption and implementation of recommendations put forth in the Guidelines.

CDC has contracted with the Research Triangle Institute (RTI) and its subcontractor, the American Dental Association (ADA), to design and conduct the first phase of such an evaluation. This phase includes conducting a mail survey to a probability sample of 6,500 dentists actively engaged in the private practice of clinical dentistry in the United States. The sample will be selected from the ADA's dentist Master file, the nation's most up-to-date and complete listing of U.S. dentists. The Master file is associated with extensive descriptive information on U.S. dentists based on returns to other ADA survey and updating activities. Included in the master file is information that will allow the sample to: Be selected with equal precision from the U.S. Census Divisions; include over-representation of selected specialties, i.e., oral surgery and periodontics; identify dentists in private practice; and weight the sample according to selected demographic and professional characteristics so the results can accurately reflect all active private practice dentists in the U.S. We expect to achieve a response rate of at least 70 percent, which will yield 4,550 completed questionnaires.

There are no costs to respondents other than their time to participate in the survey.

Estimated Annualized Burden Table
Form | Number of respondents | Number of responses per respondent | Average burden per response (in hrs.) | Total burden (in hours)
Dental Survey | 4550 | 1 | 15/60 | 1138
Total |  |  |  | 1138

Dated: March 30, 2006.
Betsey Dunaway,
Acting Reports Clearance Officer, Centers for Disease Control and Prevention.

[FR Doc. E6-4917 Filed 4-4-06; 8:45 am]

BILLING CODE 4163-18-P